DEPARTMENT OF AGRICULTURE

Submission for OMB Review; Comment Request

March 17, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 20, 2015 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Endangered Species Regulations and Forfeiture Procedures.

OMB Control Number: 0579-0076.

Summary of Collection: The Endangered Species Act of 1973 (16 U.S.C. 1513 et. seq.) directs Federal departments to utilize their authorities under the Act to conserve endangered and threatened species. Section 3 of the Act specifies that the Secretary of Agriculture is authorized to promulgate such regulations as may be appropriate to enforce the Act. The regulations contained in 7 CFR part 355 are intended to carry out the provisions of the Endangered Species Act. The Plant Protection and Quarantine (PPQ) division of USDA's Animal and Plant Health Inspection Service (APHIS) is responsible for implementing these regulations. Specifically, Section 9(d) of the Act authorizes 7 CFR 355.11, which requires a general permit to engage in the business of importing or exporting terrestrial plants listed in 50 CFR parts 17 and 23. APHIS will collect information using several PPQ forms.

Need and Use of the Information: APHIS will use the following information activities to conserve endangered and threatened species of terrestrial plants: Application for Protected Plant Permit (PPQ 621), Appeal of Denial of General Permit, Marketing and Notification Requirements, Notice of Arrival (PPQ 368), Notice of Exportation, Marking Requirements, Validation of Documents, Recordkeeping, Submitting Reports from Records Required to be kept, Waiver of Forfeiture Procedures by Owner of Seized Property (PPQ 623) Petition for Remission or Mitigation of Forfeiture (PPQ 626) and Request for Return of Property. The information provided by these information collection activities is critical to APHIS ability to carry out its responsibilities under the Endangered Species Act and the Lacey Act.

Description of Respondents: Business or other for-profit.

Number of Respondents: 16,578.

Frequency of Responses: Recordkeeping; Reporting: On occasion.

Total Burden Hours: 7,554.

Animal and Plant Health Inspection Service

Title: Bovine Spongiform Encephalopathy; Importation of Animals and Animal Products.

OMB Control Number: 0579-0234.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. The AHPA is contained in Title X, Subtitle E, Sections 10401-18 of Public Law 107-171, May 13, 2002, the Farm Security and Rural Investment Act of 2002. The Animal and Plant Health Inspection Service (APHIS) regulates the importation of animals and animal products into the United States to guard against the introduction of animal diseases. The regulations in 9 CFR parts, 91, 93, 94, 95 and 96 govern the importation of certain animals, birds, poultry, meat, other animal products and byproducts, hay, and straw into the United States in order to prevent the introduction of diseases, such as bovine spongiform encephalopathy (BSE), a chronic degenerative disease that affects the central nervous system of cattle.

Need and Use of the Information: APHIS will collect the information to prevent BSE incursion into the United States using the following: (1) Import Permit Application (VS Form 16-3); (2) Certificate for Inedible Processed Ovine/Caprine Origin Materials and Products from a Region Not Listed in 9 CFR 95.4; (3) Cooperative Service Agreement; (4) Certification Statement for Ovine/Caprine Products from Regions Listed in 9 CFR 95.4, and for Inedible Processed Animal Proteins Derived from Ovines/Caprines; (5) Seals; (6) Notification of Designation of Persons Authorized to Break Seals; (7) Agreements with Slaughter Facilities Concerning the Use of Seals on Conveyances Transporting Animals from Canada; (8) Notification Regarding Conditions of Sealed Shipments; (9) Animals Imported for Immediate Slaughter (VS Form 17-33); (10) Certification Statement for Ruminants; (11) Ruminants Imported to Designated/Approved Feedlots (VS Form 17-130); and (12) Permit for Movement of Restricted Animals (VS Form 1-27). Failure to collect this information would make it impossible for APHIS to effectively prevent BSE-contaminated animals and animal products from entering the United States.

Description of Respondents: Business or other for-profit; Federal Government.

Number of Respondents: 5,238.

Frequency of Responses: Reporting: On occasion.

Total Burden Hours: 231,307.

Ruth Brown,
Departmental Information Collection Clearance Officer.

[FR Doc. 2015-06479 Filed 3-19-15; 8:45 am]

BILLING CODE 3410-34-P